DEPARTMENT OF COMMERCE

National Oceanic and Atmospheric Administration

DEPARTMENT OF THE INTERIOR

Fish and Wildlife Service

RIN 0648-XS76

Multi-species Habitat Conservation Plan

AGENCY: National Marine Fisheries Service (NMFS), National Oceanic and Atmospheric Administration (NOAA), Commerce; Fish and Wildlife Service, Interior.

ACTION: Notice of availability of draft environmental impact statement, multi-species habitat conservation plan, and receipt of application; notice of public meeting.

SUMMARY: This notice announces the availability of a Draft Environmental Impact Statement (DEIS), proposed Multi-Species Habitat Conservation Plan (HCP), and associated Implementation Agreement (IA), for public review and comment. Fruit Growers Supply Company has submitted separate applications to the National Marine Fisheries Service (NMFS) and to the U.S. Fish and Wildlife Service (FWS) for 50-year incidental take permits under section 10 of the Endangered Species Act (ESA) of 1973, as amended.

DATES: Written comments on the proposed HCP, IA, and DEIS must be received by 5 p.m. Pacific Time on February 11, 2010.

ADDRESSES: Address all comments concerning the proposed HCP and DEIS to Lisa Roberts, and send by any one of the following methods, U.S. Mail: National Marine Fisheries Service, Arcata Area Office, 1655 Heindon Rd, Arcata, CA 95521; Fax: (707) 825-4840; E-mail: FGSHCP.SWR@noaa.gov. In the subject line of the e-mail, include the document identifier: FGS HCP.

A public meeting will be held on December 2, 2009, 6-8 p.m. at the Best Western Miners Inn Convention Center, 122 East Miner Street, Yreka, CA 96097.

FOR FURTHER INFORMATION CONTACT: For further information, or to receive a copy of the documents, please contact Lisa Roberts, Fisheries Biologist, National Marine Fisheries Service, (707) 825-5178. The HCP and DEIS are also available electronically for review on the NMFS Southwest Region website at: http://swr.nmfs.noaa.gov, or the FWS Yreka office website at: www.fws.gov/yreka/.

SUPPLEMENTARY INFORMATION: The documents being made available include (1) the proposed HCP, (2) the IA, and (3) the DEIS. This notice is provided pursuant to the ESA and the National Environmental Policy Act (NEPA) as amended. NMFS and FWS are furnishing this notice to allow other agencies and the public an opportunity to review and comment on these documents. All comments received will become part of the public record for this action. Hard bound copies of the HCP, IA, and DEIS are available for viewing, or for partial or complete duplication, at the following locations:

1. Siskiyou County Library, 719 4th St., Yreka, CA 96097.

2. Humboldt County Library, 1313 3rd St., Eureka, CA 95501.

3. Del Norte County Library, 190 Price Mall, Crescent City, CA 95531.

4. National Marine Fisheries Service, 1655 Heindon Rd., Arcata, CA 95521.

5. Yreka Fish and Wildlife Office, 1829 South Oregon St., Yreka, CA 96097.

Background

Section 9 of the ESA prohibits the ''take'' of wildlife species listed as endangered or threatened by either the FWS or NMFS (16 USC 1538). The ESA defines the term ''take'' as to harass, harm, pursue, hunt, shoot, wound, kill, trap, capture, or collect listed species, or attempt to engage in such conduct. “Harm” is defined to include significant habitat modification or degradation where it actually kills or injures wildlife by significantly impairing essential behavioral patterns, including breeding, feeding, spawning, migrating, rearing, and sheltering (64 FR 60727). Pursuant to section 10(a)(1)(B) of the ESA, FWS and NMFS may issue ITPs authorizing the take of listed species if, among other things, such taking is incidental to, and not the purpose of, otherwise lawful activities.

Take of listed plant species is not prohibited under the ESA, and cannot be authorized under a section 10 permit. However, the applicant proposes to include Yreka phlox (Phlox hirsuta) in the HCP to extend the plan's conservation benefits to this species. The applicant would receive assurances under the “No Surprises” regulations found in 50 CFR 17.22(b)(5), 17.32(b)(5), and 222.307(g) for all proposed covered species in the ITP.

To receive an ITP under the ESA, an applicant must prepare an HCP that specifies the following: (1) the impact of the taking; (2) steps the applicant will take to minimize and mitigate the impact; (3) funding available to implement the steps; (4) what alternative actions to the taking the applicant considered and the reasons why these actions were not taken; and (5) any other measures NMFS or FWS may require as being necessary or appropriate for the purpose of the plan (16 USC 1539(a)(2)(A)). To issue a permit, NMFS and FWS must find that: (1) the taking will be incidental; (2) the applicant will minimize and mitigate impacts of the take to the maximum extent practicable; (3) the applicant will ensure adequate funding for the HCP; (4) the taking will not appreciably reduce the likelihood of the survival and recovery of the species in the wild; and (5) the applicant will meet other measures required by FWS and NMFS. Regulations governing issuance of FWS permits for endangered and threatened species are at 50 CFR 17.22 and 17.32, and for NMFS-issued permits at 50 CFR 222.301 through 307.

The applicant has prepared a multi-species HCP and has applied for ITPs under the ESA. The HCP applies to 152,163 acres of commercial timberland owned by Fruit Growers Supply Company in Siskiyou County, California. The ownership consists of three management units: Klamath River (64,867 acres), Scott Valley (38,814 acres), and Grass Lake (48,482 acres). The Klamath River and Scott Valley management units are located west of Interstate 5, adjacent to and intermixed with Klamath National Forest (KNF) lands. The Grass Lake management unit (also adjacent to the KNF) lies east of Interstate 5 and predominantly north of State Highway 97. These lands are referred to as the Plan Area.

The applicant has requested coverage from FWS for northern spotted owl (Strix occidentalis caurina) and Yreka phlox (Phlox hirsuta), and from NMFS for the Southern Oregon/Northern California Coasts coho salmon (Oncorhynchus kisutch) Evolutionarily Significant Unit (ESU). The applicant also has requested coverage under the ITP for the unlisted Klamath and Trinity Rivers Chinook salmon (O. tshawytscha) ESU and the Klamath Mountains Province steelhead (O. mykiss) ESU. Should these unlisted covered species become listed under the ESA during the term of the permit, take authorization for those species would become effective upon listing. The HCP describes the habitat-based conservation approach, with species-specific objectives. This includes an Aquatic Species Conservation Program for salmonids and Terrestrial Species Conservation Program for the northern spotted owl and Yreka phlox.

Activities proposed for ITPs coverage include mechanized timber harvest; forest product transportation; road and landing construction, use, maintenance, and abandonment; site preparation; tree planting; certain types of vegetation management; silvicultural thinning and other silvicultural activities; fire suppression; rock quarry and borrow pit operations; aquatic habitat restoration; minor forest management activities such as forest product collecting; and monitoring activities and scientific work in the Plan Area.

The proposed duration of the ITPs and HCP is 50 years, though many aspects of the plan's conservation strategy are intended to benefit the covered species long into the future. The goals of this HCP are to: (1) protect and improve habitats required by species covered by the HCP and (2) establish appropriate guidelines for continuing timber harvests and other forest management activities.

National Environmental Policy Act Compliance

NMFS and FWS formally initiated an environmental review of the project through publication of a Notice of Intent to prepare an Environmental Impact Statement in the Federal Register on February 22, 2008 (73 FR 9776). That document also announced a public scoping period during which interested parties were invited to provide written comments expressing their issues or concerns relating to the proposal and attend one of two public scoping meetings held in Yreka and Happy Camp, California.

NMFS and FWS have jointly prepared a DEIS to analyze the effects of alternatives on the human environment. Proposed issuance of the associated ITPs from both NMFS and FWS for covered species and applicant implementation of the HCP make up the Proposed Alternative in the DEIS. The other alternatives analyzed in the DEIS include: (1) the No Action Alternative (ITPs would not be issued and there would not be an HCP); (2) Alternative A (ITPs would be issued by both agencies, and northern spotted owl conservation areas would be based on the Northwest Forest Plan (NWFP) system of late-successional reserves (LSRs), and the Aquatic Species Conservation Program would be based on concepts outlined in the NWFP for the protection of aquatic habitats); and (3) Alternative B (FWS would issue an ITP for northern spotted owl, with spotted owl conservation based on management of foraging and dispersal habitat across the Plan Area).

Public Comments

If you wish to comment on the permit application, the HCP, IA, or DEIS, you may submit your comments to the address listed in the ADDRESSES section of this document. Before including your address, phone number, e-mail address, or other personal identifying information in your comment, you should be aware that your entire comment including your personal identifying information may be made publicly available at any time. While you may ask us in your comment to withhold your personal identifying information from public review, we cannot guarantee that we will be able to do so.

Special Accommodations

The public meeting is physically accessible to people with disabilities. Requests for sign language interpretation or other auxiliary aids should be directed to Lisa Roberts, National Marine Fisheries Service (707) 825-5178, at least 5 working days prior to the meeting date.

Next Steps

NMFS and FWS will evaluate the applications, associated documents, and comments submitted to them to prepare a final EIS. A permit decision will be made no sooner than 30 days after the publication of the final EIS and completion of the Record of Decision.

Dated: November 5, 2009.
Alexandra Pitts,
Acting Deputy Regional Director, Pacific Southwest Region, U.S. Fish and Wildlife Service.

Dated: November 9, 2009.
Angela Somma,
Chief, Endangered Species Division, Office of Protected Resources, National Marine Fisheries Service.

[FR Doc. E9-27318 Filed 11-12-09; 8:45 am]

BILLING CODE 3510-22-S